DEPARTMENT OF TRANSPORTATION

Federal Aviation Administration

14 CFR Part 39

[Docket No. FAA-2011-0478; Directorate Identifier 2010-NM-138-AD]

RIN 2120-AA64

Airworthiness Directives; Airbus Model A300 B4-103, B4-203, and B4-2C Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

One operator reported a failure of the MLG [main landing gear] retraction actuator sliding rod. This incident occurred at a number of operating flight cycles lower than the limit value imposed by the MLG manufacturer.

This condition, if not detected and corrected, results in undampened extension of the MLG, leading to higher than usual loads on the MLG attachment. Higher loads affect the structural integrity of the MLG and could lead to MLG failure.

* * * * *

The proposed AD would require actions that are intended to address the unsafe condition described in the MCAI.

DATES: We must receive comments on this proposed AD by July 25, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For Airbus service information identified in this proposed AD, contact Airbus SAS-EAW (Airworthiness Office), 1 Rond Point Maurice Bellonte, 31707 Blagnac Cedex, France; telephone +33 5 61 93 36 96; fax +33 5 61 93 44 51; e-mail account.airworth-eas@airbus.com; Internet http://www.airbus.com. For Messier-Dowty service information identified in this proposed AD, contact Messier-Dowty: Messier Services Americas, Customer Support Center, 45360 Severn Way, Sterling, Virginia 20166-8910; telephone 703-450-8233; fax 703-404-1621; Internet https://techpubs.services/messier-dowty.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2011-0478; Directorate Identifier 2010-NM-138-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On November 29, 2007, we issued AD 2007-25-15, Amendment 39-15297 (72 FR 69601, December 10, 2007). That AD required actions intended to address an unsafe condition on all Airbus Model A300 series airplanes and all Airbus Model A300-600 series airplanes.

Since we issued AD 2007-25-15, the European Aviation Safety Agency (EASA), which is the Technical Agent for the Member States of the European Community, has issued EASA Airworthiness Directive 2010-0102, dated June 8, 2010 (referred to after this as “the MCAI”), to correct an unsafe condition for the specified products. The MCAI states:

One operator reported a failure of the MLG [main landing gear] retraction actuator sliding rod. This incident occurred at a number of operating flight cycles lower than the limit value imposed by the MLG manufacturer.

This condition, if not detected and corrected, results in undampened extension of the MLG, leading to higher than usual loads on the MLG attachment. Higher loads affect the structural integrity of the MLG and could lead to MLG failure.

To address and correct this unsafe condition, EASA issued AD 2006-0075 (now at Revision 2) [which corresponds to FAA AD 2007-25-15] to require repetitive inspections of the retraction actuator sliding rod as installed on A300, A300-600 and A300-600ST aeroplanes and, depending on findings, repair or replacement of the affected parts.

Since this event, studies have been performed by Airbus, the consequences of which are that for A300 aeroplanes, a new inspection program (new threshold and interval) has been established.

For the reason described above, this new [EASA] AD retains the requirements of AD 2006-0075R2, which is superseded and requires the accomplishment of the repetitive inspections and associated corrective actions at the new intervals. In addition, the Airbus A300 Aircraft Maintenance Manual (AMM) Chapter 12-22-32 (associated to Maintenance Planning Document (MPD) task 321112-0505-1) has been revised to introduce a greasing action at the level of the pick-up jack fitting. Consequently, this AD also requires the repetitive lubrication task.

For A300-600 and A300-600ST aeroplanes, the analyses have shown that, due to design differences, the loads induced on the MLG attachments are within acceptable margins. For that reason, this AD does not apply to those aeroplanes which were previously included in the applicability of EASA AD 2006-0075R2.

You may obtain further information by examining the MCAI in the AD docket.

Relevant Service Information

Airbus has issued Mandatory Service Bulletin A300-32-0450, including Appendix 1, Revision 02, dated July 28, 2009; and Task 321112-0505-1 of the A300 Maintenance Planning Document, Revision 30, dated April 1, 2010. Messier-Dowty has issued Special Inspection Service Bulletin 470-32-806, dated October 27, 2005. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 3 products of U.S. registry.

We estimate that it would take about 6 work-hours per product to comply with the new basic requirements of this proposed AD. The average labor rate is $85 per work-hour. Based on these figures, we estimate the cost of the proposed AD on U.S. operators to be $1,530, or $510 per product.

In addition, we estimate that any necessary follow-on actions would take about 6 work-hours and require parts costing $0, for a cost of $510 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15297 (72 FR 69601, December 10, 2007) and adding the following new AD:

Airbus: Docket No. FAA-2011-0478; Directorate Identifier 2010-NM-138-AD.

Comments Due Date

(a) We must receive comments by July 25, 2011.

Affected ADs

(b) This AD supersedes AD 2007-25-15, Amendment 39-15297.

Applicability

(c) This AD applies to all Airbus Model A300 B4-103, B4-203, and B4-2C airplanes; certificated in any category; equipped with MLG retraction actuator having part number (P/N) C23129 fitted with sliding rod P/N C69029-2 or C69029-3.

Subject

(d) Air Transport Association (ATA) of America Code 32: Landing gear.

Reason

(e) The mandatory continuing airworthiness information (MCAI) states:

One operator reported a failure of the MLG [main landing gear] retraction actuator sliding rod. This incident occurred at a number of operating flight cycles lower than the limit value imposed by the MLG manufacturer.

This condition, if not detected and corrected, results in undampened extension of the MLG, leading to higher than usual loads on the MLG attachment. Higher loads affect the structural integrity of the MLG and could lead to MLG failure.

* * * * *

Compliance

(f) You are responsible for having the actions required by this AD performed within the compliance times specified, unless the actions have already been done.

Revised Compliance Times for Inspection of MLG Retraction Actuator and Corrective Actions

(g) At the applicable time specified in paragraphs (g)(1), (g)(2), and (g)(3) of this AD: Remove the MLG retraction actuator having P/N C23129 and do a detailed and high frequency eddy current inspection for defects that exceed the criteria defined in Messier-Dowty Special Inspection Service Bulletin 470-32-806, dated October 27, 2005, of the retraction actuator sliding rods having P/N C69029-2 or C69029-3, in accordance with the Accomplishment Instructions of Airbus Mandatory Service Bulletin A300-32-0450, Revision 02, dated July 28, 2009.

(1) For airplanes on which the retraction actuator sliding rod has accumulated 12,000 or fewer total flight cycles as of the effective date of this AD: Inspect at the later of the times specified in paragraphs (g)(1)(i) and (g)(1)(ii) of this AD.

(i) Before the accumulation of 12,000 total flight cycles on the retraction actuator sliding rod.

(ii) Within 2,000 flight cycles or 24 months after the effective date of this AD, whichever occurs first.

(2) For airplanes on which the retraction actuator sliding rod has accumulated more than 12,000 total flight cycles, and 22,000 or fewer total flight cycles, as of the effective date of this AD: Inspect at the earliest of the times specified in paragraphs (g)(2)(i), (g)(2)(ii), and (g)(2)(iii) of this AD.

(i) Before the accumulation of 23,000 total flight cycles on the retraction actuator sliding rod.

(ii) Within 2,000 flight cycles after the effective date of this AD.

(iii) Within 24 months after the effective date of this AD.

(3) For airplanes on which the retraction actuator sliding rod has accumulated more than 22,000 total flight cycles as of the effective date of this AD: Inspect within 1,000 flight cycles or 12 months after the effective date of this AD, whichever occurs first.

(h) Thereafter, repeat the inspection required by paragraph (g) of this AD at intervals not to exceed 12,000 flight cycles.

(i) If, during any inspection required by paragraph (g) or (h) of this AD, any defect is detected that exceeds the criteria defined in Messier-Dowty Special Inspection Service Bulletin 470-32-806, dated October 27, 2005, before further flight, replace the affected sliding rod with a serviceable unit in accordance with the Accomplishment Instructions of Airbus Mandatory Service Bulletin A300-32-0450, Revision 02, dated July 28, 2009.

(j) Before the accumulation of 32,000 flight cycles on any retraction actuator sliding rod, it must be replaced with a serviceable unit in accordance with the Accomplishment Instructions of Airbus Mandatory Service Bulletin A300-32-0450, Revision 02, dated July 28, 2009. Parts removed from an airplane as required by this paragraph must be returned to Messier-Dowty within 30 days after removing the part from the airplane.

(k) As of the effective date of this AD, any MLG retraction actuator sliding rod having P/N C69029-2 or C69029-3 that has accumulated less than 32,000 total flight cycles, may be installed on any airplane, provided that the inspections required by paragraphs (g) and (h) of this AD are accomplished at the compliance times specified in paragraphs (g) and (h) of this AD and all applicable replacements required by paragraphs (i) and (j) of this AD are done.

Lubrication of the MLG Assembly

(l) Within 1,500 flight hours after the effective date of this AD: Clean and lubricate the MLG assembly, in accordance with Task 321112-0505-1 of the Airbus A300 Maintenance Planning Document, Revision 30, dated April 1, 2010. Repeat the cleaning and lubrication thereafter at intervals not to exceed 1,500 flight hours.

Credit for Actions Accomplished in Accordance With Previous Service Information

(m) Inspections accomplished before the effective date of this AD, in accordance with Airbus Service Bulletin A300-32-0450, dated December 1, 2005; or Airbus Mandatory Service Bulletin A300-32-0450, Revision 01, dated May 10, 2006; are acceptable for compliance with the corresponding requirements of this AD.

FAA AD Differences

Note 1 : This AD differs from the MCAI and/or service information as follows: No differences.

Other FAA AD Provisions

(n) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone (425) 227-2125; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2007-25-15, amendment 39-15297, are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(o) Refer to MCAI European Aviation Safety Agency Airworthiness Directive 2010-0102, dated June 8, 2010; Airbus Mandatory Service Bulletin A300-32-0450, Revision 02, dated July 28, 2009; Messier-Dowty Special Inspection Service Bulletin 470-32-806, dated October 27, 2005; and Task 321112-0505-1 of the Airbus A300 Maintenance Planning Document, Revision 30, dated April 1, 2010; for related information.

Issued in Renton, Washington, on May 27, 2011.
Ali Bahrami,
Manager, Transport Airplane Directorate, Aircraft Certification Service.

[FR Doc. 2011-14094 Filed 6-7-11; 8:45 am]

BILLING CODE 4910-13-P